DEPARTMENT OF COMMERCE

Patent and Trademark Office

37 CFR Part 1

[Docket No. PTO-C-2006-0057]

RIN 0651-AC09

April 2007 Revision of Patent Cooperation Treaty Procedures

AGENCY: United States Patent and Trademark Office, Commerce.

ACTION: Final rule; correction.

SUMMARY: The United States Patent and Trademark Office (Office) published a final rule in the Federal Register of September 10, 2007, revising the rules of practice in title 37 of the Code of Federal Regulations (CFR) to conform them to certain amendments made to the Regulations under the Patent Cooperation Treaty (PCT) that took effect on April 1, 2007. This document corrects errors in that final rule.

DATES: Effective Date: The changes to 37 CFR 1.17(t) are effective November 9, 2007.

FOR FURTHER INFORMATION CONTACT: Richard R. Cole, Senior Legal Examiner, Office of PCT Legal Administration (OPCTLA) directly by telephone at (571) 272-3281, or by facsimile at (571) 273-0459.

SUPPLEMENTARY INFORMATION: The Office published a final rule in the Federal Register of September 10, 2007 (72 FR 51559), entitled “April 2007 Revision of Patent Cooperation Treaty Procedures” (final rule). This document corrects errors concerning the effective date and applicability date of 37 CFR 1.497 and the fee amount specified in 37 CFR 1.17(t).

The final rule should have indicated that the changes to 37 CFR 1.497 are effective on September 10, 2007, and applicable as of April 1, 2007, for international applications filed on or after April 1, 2007.

Section 1.17(t) should contain a reference to 35 U.S.C. 365(c) and specify a fee of $1,410.00 rather than $1,370.00. See Revision of Patent Fees for Fiscal Year 2007, 72 FR 46988, 46902 (Aug. 22, 2007), 1321 Off. Gaz. Pat. Office 154, 156 (Aug. 28, 2007).

In rule FR Doc. E7-17711, September 10, 2007 (72 FR 51559), make the following corrections:

1. On page 51559, in the third column, and page 51560, in the first column, the sentence “The changes to 37 CFR 1.57, 1.437, and 1.465 are effective on September 10, 2007” should read “The changes to 37 CFR 1.57, 1.437, 1.465, and 1.497 are effective on September 10, 2007”.

2. On page 51560, in the first column, the sentence “The changes to 37 CFR 1.57, 1.437, and 1.465 are applicable as of April 1, 2007, for international applications filed on or after that date” should read “The changes to 37 CFR 1.57, 1.437, 1.465 and 1.497 are applicable as of April 1, 2007, for international applications filed on or after that date”.

§ 1.17 [Corrected]

3. On page 51563, in the second column, in § 1.17, paragraph (t) is corrected to read as follows:

§ 1.17 Patent application and reexamination processing fees.

* * * * *

(t) For the acceptance of an unintentionally delayed claim for priority under 35 U.S.C. 119, 120, 121, or 365(a) or (c) (§§ 1.55 and 1.78) or for filing a request for the restoration of the right of priority under § 1.452—1,410.00.

Dated: October 3, 2007.
Jon W. Dudas,
Under Secretary of Commerce for Intellectual Property and Director of the United States Patent and Trademark Office.

[FR Doc. E7-19960 Filed 10-10-07; 8:45 am]

BILLING CODE 3510-16-P